DEPARTMENT OF THE INTERIOR

National Park Service

[NPS-WASO-NAGPRA-10417; 2200-1100-665]

Notice of Inventory Completion: Wesleyan University, Middleton, CT

AGENCY: National Park Service, Interior.

ACTION: Notice.

SUMMARY: The Wesleyan University, Middleton, CT, has completed an inventory of human remains, in consultation with the appropriate Indian tribes, and has determined that there is a cultural affiliation between the human remains and present-day Indian tribes. Representatives of any Indian tribe that believes itself to be culturally affiliated with the human remains may contact Wesleyan University, Middleton, CT. Repatriation of the human remains to the Indian tribes stated below may occur if no additional claimants come forward.

DATES: Representatives of any Indian tribe that believes it has a cultural affiliation with the human remains should contact Wesleyan University, Middleton, CT, at the address below by August 2, 2012.

ADDRESSES: Dr. Sonia Mañjon, Chief Diversity Officer, Wesleyan University, 237 High Street, Middletown, CT 06457, telephone (860) 685-3927.

SUPPLEMENTARY INFORMATION: Notice is here given in accordance with the Native American Graves Protection and Repatriation Act (NAGPRA), 25 U.S.C. 3003, of the completion of an inventory of human remains in the possession of Wesleyan University, Middleton, CT. The human remains were removed from Hamilton County, TN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Wesleyan University professional staff in consultation with representatives of Cherokee Nation, Oklahoma; Chickasaw Nation, Oklahoma; Eastern Band of Cherokee Indians of North Carolina; Muscogee (Creek) Nation, Oklahoma; Poarch Band of Creek Indians of Alabama; and the United Keetoowah Band of Cherokee Indians in Oklahoma.

History and Description of the Remains

In the late 1800s, human remains representing, at minimum, three individuals were removed from Hamilton County, TN, during exploration of a mound on William's Island (site 40Ha60) by George D. Barnes, an amateur collector from Dayton, TN, with the permission of the landowner. This is part of a larger collection purchased from Barnes by A.R. Crittenden of Middletown, CT, in 1896 and deposited in the Wesleyan University Museum until the purchase price ($1000) could be raised by the Wesleyan University Museum. The collection was officially purchased by the Wesleyan University Museum in 1899. No known individuals were identified. No associated funerary objects are present. The majority of the material culture from William's Island site has been provisionally assigned to the mid/late Mississippian period (late prehistoric/early historic). The human remains are Native American based on the site context.

In the late 1800s, human remains representing, at minimum, two individuals were removed from a mound 12 miles north of Chattanooga, TN, on the Yarnell (or Garnell) farm by George D. Barnes, an amateur collector from Dayton, TN. This is part of a larger collection purchased from Barnes by A. R. Crittenden of Middletown, CT, in 1896 and deposited in the Wesleyan University Museum until the purchase price ($1000) could be raised by the Wesleyan University Museum. The collection was officially purchased by the Wesleyan University Museum in 1899. No known individuals were identified. No associated funerary objects are present. The mound is believed to be date to the Mississippian period. The human remains are Native American based on the mound context.

In the late 1800s, human remains representing, at minimum, five individuals were removed from “vicinity of Chattanooga,” in Hamilton County, TN, by George D. Barnes, an amateur collector from Dayton, TN. This is part of a larger collection purchased from Barnes by A. R. Crittenden of Middletown, CT, in 1896 and deposited in the Wesleyan University Museum until the purchase price ($1000) could be raised by the Wesleyan University Museum. The collection was officially purchased by the Wesleyan University Museum in 1899. No known individuals were identified. No associated funerary objects are present. The human remains are Native American based on the collecting practices of Mr. Barnes.

Archeological evidence, oral tradition, and geographical location supports a cultural affiliation determination to all three Federally recognized Cherokee tribes (Cherokee Nation, Oklahoma; Eastern Band of Cherokee Indians of North Carolina; and the United Keetoowah Band of Cherokee Indians in Oklahoma), which were one group until their forced relocation known as The Trail of Tears, which resulted from the Indian Relocation Act of 1830. Oral tradition supports archeological research that suggests a much longer Cherokee occupation of the region associated with the upper Tennessee, Little Tennessee, and Hiwassee rivers. According to one source, “[d]ue to similar culturally conservative traits, such as commonality in burial practices, house patterns, and community organization, a temporal progression is suggested from Dallas to Mouse Creek to Overhill Cherokee based on shifts in ceramic styles, settlement characteristics, and sociopolitical organizations” (Schroedl, 1986). The Eastern Band of Cherokee Indians support this conclusion, and their oral tradition reinforces this determination. Based on the Indian Claims Commission decision, Hamilton County, TN, is the aboriginal territory of the Eastern Band of Cherokee Indians. Based on Indian Land Cessions 1784-1894, Hamilton County, TN, is the aboriginal territory of all three Federally recognized Cherokee tribes.

Determinations Made by Wesleyan University

Officials of Wesleyan University have determined that:

• Pursuant to 25 U.S.C. 3001(9), the human remains described in this notice represent the physical remains of ten individuals of Native American ancestry.

• Pursuant to 25 U.S.C. 3001(2), there is a relationship of shared group identity that can be reasonably traced between the Native American human remains is to the Cherokee Nation, Oklahoma; Eastern Band of Cherokee Indians of North Carolina; and the United Keetoowah Band of Cherokee Indians in Oklahoma.

Additional Requestors and Disposition

Representatives of any Indian tribe that believes itself to be culturally affiliated with the human remains should contact Dr. Sonia Mañjon, Chief Diversity Officer, Wesleyan University, 237 High Street, Middletown, CT 06457, telephone (860) 685-3927, before August 2, 2012. Repatriation of the human remains to the Cherokee Nation, Oklahoma; Eastern Band of Cherokee Indians of North Carolina; and the United Keetoowah Band of Cherokee Indians in Oklahoma may proceed after that date if no additional claimants come forward.

Wesleyan University is responsible for notifying the Cherokee Nation, Oklahoma; Chickasaw Nation, Oklahoma; Eastern Band of Cherokee Indians of North Carolina; Muscogee (Creek) Nation, Oklahoma; Poarch Band of Creek Indians of Alabama; and the United Keetoowah Band of Cherokee Indians in Oklahoma that this notice has been published.

Dated: May 23, 2012.
Sherry Hutt,
Manager, National NAGPRA Program.

[FR Doc. 2012-16205 Filed 7-2-12; 8:45 am]

BILLING CODE 4312-50-P